DEPARTMENT OF THE INTERIOR

Fish and Wildlife Service

50 CFR Part 17

[FWS-R2-ES-2008-0059; MO 9221050083-B2]

Endangered and Threatened Wildlife and Plants; Status Review of the Bald Eagle (Haliaeetus leucocephalus) in the Sonoran Desert Area of Central Arizona and Northwestern Mexico

AGENCY: Fish and Wildlife Service, Interior.

ACTION: Notice of continuing information collection for a status review.

SUMMARY: We, the U.S. Fish and Wildlife Service (Service), announce the continuation of information collection on a status review for the bald eagle (Haliaeetus leucocephalus) in the Sonoran Desert area of central Arizona and northwestern Mexico, hereafter referred to as the “Sonoran Desert area bald eagle.” Through this action, we encourage all interested parties to provide us with information regarding the status of, and any potential threats to, the Sonoran Desert area bald eagle. Information previously submitted for this status assessment does not need to be resubmitted, and will be incorporated into the public record and fully considered in our status review.

DATES: To allow us adequate time to consider and incorporate submitted information into our review which is due by October 12, 2009, we request that we receive the information on or before July 10, 2009.

ADDRESSES: You may submit information by one of the following methods:

• Federal eRulemaking Portal: http://www.regulations.gov. Follow the instructions for comments or submissions.

• U.S. mail or hand-delivery: Public Comments Processing, Attn: FWS-R2-ES-2008-0059; Division of Policy and Directives Management; U.S. Fish and Wildlife Service; 4401 N. Fairfax Drive, Suite 222; Arlington, VA 22203.

We will not accept e-mail or faxes. We will post all information received on http://www.regulations.gov. This generally means that we will post any personal information you provide us (see the Information Solicited section below for more information).

FOR FURTHER INFORMATION CONTACT: Steve Spangle, Field Supervisor, Arizona Ecological Services Office, 2321 West Royal Palm Road, Suite 103, Phoenix, AZ 85021-4951; telephone 602-242-0210; facsimile 602-242-2513. If you use a telecommunications device for the deaf (TDD), call the Federal Information Relay Service (FIRS) at 800-877-8339.

SUPPLEMENTARY INFORMATION:

Information Solicited

To ensure that the status review is complete and based on the best available scientific and commercial information, we are continuing to collect information concerning the status of the Sonoran Desert area bald eagle (Haliaeetus leucocephalus). We will use information gained during this process to evaluate whether the Sonoran Desert area bald eagle is a Distinct Population Segment (DPS) as described in our policy on determining a DPS (61 FR 4722, February 7, 1996; DPS Policy), and if listing as threatened or endangered is warranted under the Endangered Species Act of 1973, as amended (Act) (16 U.S.C. 1531 et seq.). If we determine that listing the Sonoran Desert area bald eagle is warranted, we would propose critical habitat to the maximum extent prudent and determinable at the time we prepare a proposed listing rule.

To allow us adequate time to incorporate submitted information into our review, we request that we receive the information on or before July 10, 2009. Because this status review will not result in establishing a rule, this date is an advisory. However, please note that the court has established a deadline of October 12, 2009, for completion of this status review. As a result, the Service must be able to compile, evaluate, and incorporate substantial information into this status review. Therefore, receiving substantial information on or before July 10, 2009, maximizes our ability to incorporate that information into our review.

At this time, we request any additional information from the public, other concerned governmental agencies, Native American Tribes, the scientific community, industry, or any other interested parties on the status of the Sonoran Desert area bald eagle, including:

(1) Information regarding Sonoran Desert area bald eagles' historical and current population status, distribution, and trends; biology and ecology; and habitat selection. We also solicit information of this type on adjacent populations and geographic areas for use in evaluating discreteness and significance of the Sonoran Desert area bald eagle under the Service's DPS Policy.

(2) Information that supports or refutes the appropriateness of considering the Sonoran Desert area bald eagle to be discrete, as defined in the DPS Policy including, but not limited to:

(a) Information indicating whether Sonoran Desert area bald eagles are markedly separated from other populations of bald eagles due to physical, physiological, ecological, or behavioral factors. This may include information regarding bald eagles that hatched in the Sonoran Desert area and that breed with bald eagles that hatched in other locations outside this area, and information regarding the Sonoran Desert area bald eagles' isolation from other breeding populations of eagles.

(b) Information indicating whether or not the Sonoran Desert area bald eagle is delimited by international governmental boundaries within which significant differences in control of exploitation, management of habitat, conservation status, or regulatory mechanisms exist.

(3) Information that supports or refutes the appropriateness of considering the Sonoran Desert area bald eagle to be significant, as defined in the DPS Policy including, but not limited to:

(a) Information indicating whether the ecological setting, including such factors as temperature, moisture, weather patterns, and plant communities, in which the Sonoran Desert area bald eagle persists is unusual or unique when compared to that of bald eagles found elsewhere in North America. This may also include information indicating that the Sonoran Desert area bald eagle has or has not developed adaptations to that unique environment, such as breeding behavior, morphological characteristics, egg development and characteristics, or nest types.

(b) Information indicating whether loss of the Sonoran Desert area bald eagle would or would not result in a significant gap in the range of the taxon.

(c) Information indicating whether the Sonoran Desert area bald eagle differs markedly from other populations of bald eagles in its genetic characteristics.

(4) Information regarding the availability of suitable, but unoccupied, breeding habitat that might allow for expansion of the Sonoran Desert area bald eagle populations. This may include information on areas outside of the boundaries delineated for the Sonoran Desert area bald eagle in our May 1, 2008, final listing rule (73 FR 23966).

(5) Information on the effects of potential threat factors to the Sonoran Desert area bald eagle populations that are the basis for a listing determination under section 4(a) of the Act, which are:

(a) The present or threatened destruction, modification, or curtailment of the Sonoran Desert area bald eagle's breeding habitat or range, including but not limited to the effects on habitat from: water management (river diversions, dams, dam operations, surface and groundwater withdrawals); human population growth and accompanying increases in water demands; human recreation; reduced riparian health and regrowth of streamside trees for nesting, foraging, and roosting; urban development; and climate change;

(b) Overutilization for commercial, recreational, scientific, or educational purposes;

(c) Disease or predation, including but not limited to the effects of avian pox or West Nile virus, Mexican chicken bugs, or ticks;

(d) The inadequacy of existing regulatory mechanisms, including but not limited to adequacy or inadequacy of funding for ongoing management; and the adequacy or inadequacy of protections under the Bald and Golden Eagle Protection Act and the Migratory Bird Treaty Act; and

(e) Other natural or manmade factors affecting its continued existence, including but not limited to information on: Productivity, survival, and mortality rates of this population; the occurrence and effect of inbreeding; effects to Sonoran Desert area bald eagles while outside the Sonoran Desert area; effects to Sonoran Desert area bald eagles' prey base and productivity, including effects of nonnative predatory fish and native fish restoration; effects of low-flying aircraft; the presence and abundance of pesticides and contaminants such as lead, mercury, or dichlorodiphenyldichloroethylene (DDE); the effects of climate change; and the effects from eggshell thinning.

(6) Information supporting the existing boundary developed in our May 1, 2008, final listing rule (73 FR 23966) for Sonoran Desert area bald eagles under consideration in this status review, or information indicating that the boundary should be modified.

If you submitted information in response to our notice of initiation of a status review, which was published in the Federal Register on May 20, 2008 (73 FR 29096), you do not need to resend it. We will include the submission in the public record, and we will consider the information in the preparation of our status review.

You may submit your information concerning this status review by one of the methods listed in the ADDRESSES section. We will not consider submissions sent by e-mail or fax or to an address not listed in the ADDRESSES section.

If you submit information via http://www.regulations.gov, your entire submission—including any personal identifying information—will be posted on the Web site. If you submit personal identifying information, you may request at the top of your document that we withhold this personal identifying information from public review. However, we cannot guarantee that we will be able to do so. We will post all hardcopy submissions on http://www.regulations.gov.

Information and materials we receive, as well as supporting documentation we used in preparing this notice, will be available for public inspection on http://www.regulations.gov, or by appointment, during normal business hours, at the U.S. Fish and Wildlife Service, Arizona Ecological Services Office (see FOR FURTHER INFORMATION CONTACT).

Background

Section 4(b)(3)(B) of the Act requires that, for any petition to revise the Lists of Threatened and Endangered Wildlife and Plants that contains substantial scientific or commercial information that the action may be warranted, we make a finding within 12 months of the date of the receipt of the petition on whether the petitioned action is: (a) Not warranted, (b) warranted, or (c) warranted but precluded by other pending proposals. Such 12-month findings are to be published promptly in the Federal Register.

Federal actions taken prior to May 2008 are described in a notice of initiation of a status review of the Sonoran Desert area bald eagle, which was published in the Federal Register on May 20, 2008 (73 FR 29096). On August 27, 2008, the U.S. District Court for the District of Arizona granted the Center for Biological Diversity and Maricopa Audubon Society's unopposed motion to amend the previous court order (Center for Biological Diversity v. Kempthorne, CV 07-0038-PHX-MHM (D. Ariz.)) to extend the completion date of the bald eagle status review to October 12, 2009. Included in the motion submitted to the court were declarations discussing the need for additional time for Native American Tribes to compile and submit information.

At this time, we are soliciting new information on the status of and potential threats to the Sonoran Desert population of bald eagles. We will base our new determination as to whether listing is warranted on a review of the best scientific and commercial information available, including all such information received as a result of this notice. For more information on the biology, habitat, and range of the Sonoran Desert population of bald eagles, please refer to our previous 90-day finding published in the Federal Register on August 30, 2006 (71 FR 51549), and our final delisting rule for the bald eagle published in the Federal Register on July 9, 2007 (72 FR 37346).

Author

The primary authors of this notice are the staff members of the Arizona Ecological Services Office.

Authority

The authority for this action is the Endangered Species Act of 1973 (16 U.S.C. 1531 et seq.).

Dated: January 7, 2009.
Kenneth Stansell,
Acting Director, U.S. Fish and Wildlife Service.

[FR Doc. E9-552 Filed 1-14-09; 8:45 am]

BILLING CODE 4310-55-P